DEPARTMENT OF HOMELAND SECURITY

U.S. Customs and Border Protection

Australia Beef Imports Approved for the Electronic Certification System (eCERT)

AGENCY: Customs and Border Protection, Department of Homeland Security.

ACTION: General notice.

SUMMARY: This document provides notice that effective January 3, 2011, the export certification requirement for imports of beef from Australia subject to quantitative restraints will be accomplished through the Electronic Certification System (eCERT). Beginning on that date, all such imports must be accompanied by an eCERT transmission in lieu of the paper export certificate. This change is being made at the request of Australia's Department of Agriculture Forestry and Fisheries and with the approval of the United States Government.

DATES: The use of the eCERT process for all Australian beef importations subject to within quantity restrictions will be effective for beef entered, or withdrawn from warehouse, for consumption on or after January 3, 2011.

FOR FURTHER INFORMATION CONTACT: Richard Wallio, Quota Branch, Trade Policy and Programs, (202) 863-6508.

SUPPLEMENTARY INFORMATION:

Background

There are existing quantitative restraints on beef from Australia pursuant to U.S. Note 3, subchapter XIII, Chapter 99, Harmonized Tariff Schedule of the United States (HTSUS), and subheading 9913.02.05, HTSUS. The U.S. Note states that the within-quota amounts will receive duty-free treatment if the importer makes a declaration to Customs and Border Protection (CBP) that a valid export certificate issued by the Government of Australia is in effect for the goods. The existing tariff rate quotas and export certificate requirement for beef from Australia set forth in U.S. Note 3, subchapter XIII, Chapter 99, HTSUS, are derived from paragraph 3 of Annex I of the General Notes to the Tariff Schedule of the United States under Annex 2-B of the United States-Australia Free Trade Agreement. Section 132.15 of the CBP regulations (19 CFR 132.15) sets forth provisions relating to the requirement that an export certificate must accompany imports of beef subject to quota.

The Electronic Certification System (eCERT) is a system developed by CBP that uses electronic data transmissions of information normally associated with a required export document such as a license or certificate to facilitate the administration of quotas and ensure that the proper restraint levels are charged without being exceeded. Australia currently uses the eCERT process for all dairy quota importations into the United States.

Foreign countries participating in eCERT transmit information via a global network service provider. This allows connectivity to the CBP Automated Commercial System (ACS). When making entry, specific data elements transmitted to CBP by the importer/broker must match eCERT data from the foreign country before any applicable quota is reported. The ability to have government-to-government transmission decreases the potential for circumvention of quotas resulting from counterfeit documents.

Although the release of the shipment is not precluded by the absence of certificate information, no claims for a preferential duty rate will be considered unless the information transmitted by the filer matches the information transmitted by the foreign government. If the certification is not available at time of entry, the filer has the option to use the non-preferential rate of duty or warehouse, export, or destroy the merchandise. The filer may file a protest if the certification transmission is received after liquidation of an entry, using the appropriate guidelines.

This document provides notification that Australia will be using the eCERT process for beef entries subject to quantitative quota restrictions beginning January 3, 2011. Such imports that are entered, or withdrawn from warehouse, for consumption on or after that date must be accompanied by an eCERT transmission in lieu of the paper export certificate.

Dated: December 21, 2010.
Daniel Baldwin,
Assistant Commissioner, Office of International Trade.

[FR Doc. 2010-32537 Filed 12-27-10; 8:45 am]

BILLING CODE P